DEPARTMENT OF STATE

[Public Notice 8832]

Notice of Declaration of Foreign Countries as Reciprocating Countries for the Enforcement of Family Support (Maintenance) Obligations

This notice amends and supplements Department of State Public Notice 6434, 73 FR 72555 (November 28, 2008).

Background. Section 459A of the Social Security Act (42 U.S.C. 659A) authorizes the Secretary of State with the concurrence of the Secretary of Health and Human Services to declare foreign countries or their political subdivisions to be reciprocating countries for the purpose of the enforcement of family support obligations if the country has established or has undertaken to establish procedures for the establishment and enforcement of duties of support for residents of the United States. These procedures must be in substantial conformity with the standards set forth in the statute. The statutory standards are: establishment of child support orders, including the establishment of paternity if necessary to establish the order; enforcement of child support orders, including collection and distribution of payments under such orders; cost-free services (including administrative and legal services), as well as paternity testing; and the designation of an agency as Central Authority to facilitate enforcement.

Once such a declaration is made, support agencies in jurisdictions of the United States participating in the program established by Title IV-D of the Social Security Act (the IV-D program) must provide enforcement services under that program to such reciprocating countries as if the request for service came from a U.S. State.

The declaration authorized by the statute may be made “in the form of an international agreement, in connection with an international agreement or corresponding foreign declaration, or on a unilateral basis.” The Secretary of State has authorized either the Department of State's Legal Adviser or the Assistant Secretary of State for Consular Affairs to make such a declaration after consultation with the other.

As of this date, the following countries (or Canadian provinces or territories) have been designated foreign reciprocating countries:

Country | Effective date
Australia | May 21, 2001.
Canadian Provinces or Territories:
Alberta | Sept. 4, 2002.
British Columbia | Dec. 15, 1999.
Manitoba | July 11, 2000.
New Brunswick | Feb. 1, 2004.
Newfoundland and Labrador | Aug. 7, 2002.
Northwest Territories | Feb. 7, 2004.
Nova Scotia | Dec. 18, 1998.
Nunavut | Jan. 20, 2004.
Ontario | Aug. 7, 2002.
Prince Edward Island | Feb. 2, 2013.
Saskatchewan | Jan. 24, 2007.
Yukon | May 22, 2007.
Czech Republic | May 3, 2000.
El Salvador | June 21, 2007.
Finland | Sept. 29, 2007.
Hungary | Jan. 22, 2007.
Ireland | Sept. 10, 1997.
Israel | July 1, 2009.
Netherlands | May 1, 2002.
Norway | June 10, 2002.
Poland | June 14, 1999.
Portugal | Mar. 17, 2001.
Slovak Republic | Feb. 1, 1998.
Switzerland | Sept. 30, 2004.
United Kingdom of Great Britain and Northern Ireland | Dec. 17, 2007.

Each of these countries (or Canadian provinces or territories) has designated a Central Authority to facilitate enforcement and ensure compliance with the standards of the statute. Information relating to the designated Central Authorities and the procedures for processing requests may be obtained by contacting the United States Central Authority for International Child Support, Department of Health and Human Services, Office of Child Support Enforcement (OCSE), 370 L'Enfant Promenade SW., 4-East, Washington, DC 20447; phone (202) 401-9373, fax (202) 205-5927, email: ocseinternational@acf.hhs.gov.

As of this date, a reciprocity agreement has been signed, but is not yet in effect, with Costa Rica.

The law also permits individual states of the United States to establish or continue existing reciprocating arrangements with foreign countries when there has been no Federal declaration. Many states have such arrangements with additional countries not yet the subject of a Federal declaration. Information as to these arrangements may be obtained from the individual State IV-D Agency.

FOR FURTHER INFORMATION CONTACT: Questions regarding this notice, the status of negotiations, declarations and agreements may be obtained by contacting Michael Coffee at the Office of the Assistant Legal Adviser for Private International Law, SA-4, South Building, 2430 E Street NW., Washington, DC 20037-2851; phone (202) 776-8420, fax (202) 776-8482, email: CoffeeMS@state.gov.

Dated: August 8, 2014.
Michael S. Coffee,
Attorney-Adviser, Office of Private International Law, Office of the Legal Adviser, Department of State.

[FR Doc. 2014-19794 Filed 8-19-14; 8:45 am]

BILLING CODE 4710-08-P